DEPARTMENT OF COMMERCE

National Oceanic and Atmospheric Administration

Proposed Monterey Peninsula Water Supply Project; Notice of Availability of Errata Document for the Final Environmental Impact Report/Environmental Impact Statement

AGENCY: Office of National Marine Sanctuaries (ONMS), National Ocean Service (NOS), National Oceanic and Atmospheric Administration (NOAA), Department of Commerce.

ACTION: Notice of availability of Errata for the final environmental impact report/environmental impact statement.

SUMMARY: Notice is hereby given that the National Oceanic and Atmospheric Administration (NOAA) has published an errata document for the Final Environmental Impact Report/Environmental Impact Statement (FEIR/EIS) for a permit application to NOAA's Monterey Bay National Marine Sanctuary (MBNMS) submitted by California American Water Company (CalAm) to construct and operate Monterey Peninsula Water Supply Project, a reverse osmosis (RO) desalination facility project (Project) in Monterey County, California. A notice of availability (NOA) of the final EIR/EIS was published in the Federal Register on March 30, 2018 (83 FR 13737).

DATES: This notice is applicable October 19, 2018.

ADDRESSES: Copies of the FEIR/EIS and the Errata document can be downloaded or viewed on the internet at https://montereybay.noaa.gov/resourcepro/resmanissues/desal-projects.html.

FOR FURTHER INFORMATION CONTACT: Karen Grimmer at 99 Pacific Ave., Bldg. 455a, Monterey, CA 93940, or call 831-647-4253, or email: montereybay@noaa.gov.

SUPPLEMENTARY INFORMATION:

I. Background

NOAA, as the Federal lead agency for purposes of the National Environmental Policy Act (NEPA), and the California Public Utilities Commission (CPUC), the state lead agency for purposes of the California Environmental Quality Act (CEQA), previously released a joint final environmental impact review/environmental impact statement (EIR/EIS) that analyzes the potential effects on the physical and human environment of the proposed Monterey Peninsula Water Supply Project.

II. Errata Document

The purpose of this notice is to inform the public that the errata document for the Final Environmental Impact Report/Environmental Impact Statement (FEIR/EIS) for the project is available for public inspection. It is available electronically on the website listed in the ADDRESSES section of this notice. It is also available by email by writing to the addresses identified in the FOR FURTHER INFORMATION CONTACT section of this notice.

Authority: 16 U.S.C. 1431 et seq.; 42 U.S.C. 4321 et seq.

Dated: September 13, 2018.
John Armor,
Director for the Office of National Marine Sanctuaries.

[FR Doc. 2018-22863 Filed 10-18-18; 8:45 am]

BILLING CODE 3510-NK-P